DEPARTMENT OF ENERGY

Federal Energy Regulatory Commission

[Docket No. EG01-151-000, et al.]

Escatawpa Funding, Limited Partnership, et al.; Electric Rate and Corporate Regulation Filings

March 27, 2001.

Take notice that the following filings have been made with the Commission:

1. Escatawpa Funding, Limited Partnership

[Docket No. EG01-151-000]

Take notice that on March 13, 2001, Escatawpa, Limited Partnership (Escatawpa) tendered for filing pursuant to Part 365 of the Commission's Regulations, 18 CFR Section 365, its application for determination of exempt wholesale generator status.

Escatawpa will own the Plant Daniel Combined Cycle New Generation project which consists of two generating units in Jackson County, Mississippi with a total output of 1064 MW.

Comment date: April 17, 2001, in accordance with Standard Paragraph E at the end of this notice. The Commission will limit its consideration of comments to those that concern the adequacy or accuracy of the application.

2. Public Utility Commission of Texas

[Docket No. EL01-60-000]

Take notice that on March 26, 2001, the Public Utility Commission of Texas (Texas PUC) filed a petition requesting waiver, pursuant to 18 CFR 292.402, of Commission Rules under the Public Utility Regulatory Policies Act of 1978 (PURPA) that require public utilities to purchase power from qualifying facilities (QFs) and sell power to QFs and prescribe methods for establishing the cost of purchases by electric utilities from QFs. The Texas PUC states that legislation has been enacted in Texas to introduce retail competition beginning in January 2002. It also states in the restructured electric industry in Texas, the obligations imposed on utilities by the Commission's rules are unnecessary to meet the goals of PURPA and would impede the efficient functioning of a competitive market.

Comment date: April 24, 2001, in accordance with Standard Paragraph E at the end of this notice.

3. American Transmission Co., LLC

[Docket No. ER01-1577-001]

Take notice that on March 22, 2001, American Transmission Company LLC (ATCLLC) tendered for filing substitute tariff sheets to its Open Access Transmission Tariff to correct errors in the tariff sheets submitted with its filing on March 19, 2001. ATCLLC requests an effective date of June 1, 2001.

Comment date: April 12, 2001, in accordance with Standard Paragraph E at the end of this notice.

4. Illinois Power Co.

[Docket No. ER01-1598-000]

Take notice that on March 22, 2001, Illinois Power Company (Illinois Power), 500 South 27th Street, Decatur, Illinois 65251-2200, tendered for filing the First Amendment to Service Agreement for Network Integration Transmission Service with Central Illinois Light Company (CILCO) entered into pursuant to Illinois Power's Open Access Transmission Tariff. Illinois Power requests an effective date of March 1, 2001 for the First Amendment and accordingly seeks a waiver of the Commission's notice requirement. Illinois Power states that a copy of this filing has been sent to CILCO.

Comment date: April 12, 2001, in accordance with Standard Paragraph E at the end of this notice.

5. Mid-Continent Area Power Pool

[Docket No. ER01-1599-000]

Take notice that on March 22, 2001, the Mid-Continent Area Power Pool (MAPP), tendered for filing jurisdiction as public utilities under Section 201(e) of the Federal Power Act, filed an amendment to the Restated Agreement, FERC Electric Tariff, Original Volume No. 2 that reduces the time required to amend or terminate the Restated Agreement.

Comment date: April 12, 2001, in accordance with Standard Paragraph E at the end of this notice.

6. Maine Electric Power Co.

[Docket No. ER01-1600-000]

Please take notice that on March 22, 2001 , Maine Electric Power Company (MEPCO) tendered for filing a service agreement for Long-Term Firm Point-to-Point transmission service entered into with FPL Energy Power Marketing, Inc. Service will be provided pursuant to MEPCO's Open Access Transmission Tariff, designated rate schedule MEPCO—FERC Electric Tariff, Original Volume No. 1, as supplemented, Original Service Agreement No. 67.

Comment date: April 12, 2001, in accordance with Standard Paragraph E at the end of this notice.

7. In Black Hills Corp., n/k/a Black Hills Power

[Docket No. ER01-1601-000]

Take notice that Black Hills Corporation, n/k/a Black Hills Power, Inc., a wholly-owned subsidiary of Black Hills Corporation, Inc. (a South Dakota holding corporation), on March 22, 2001, tendered for filing its Contract for Interconnection and Maintenance with the United States Department of Energy, Western Area Power Administration, and its Contract for Electric Service (Nonfirm Energy Service) with the United States Department of Energy, Western Area Power Administration. These contracts amend and extend the interconnection, maintenance and sale of nonfirm electric service provisions of the parties' previous agreement dated November 14, 1988, Contract No. 88-BAO-307.

Copies of these filings were supplied to Western Area Power Administration.

Comment date: April 12, 2001, in accordance with Standard Paragraph E at the end of this notice.

8. Entergy Services, Inc.

[Docket No. ER01-1602-000]

Take notice that on March 22, 2001, Entergy Services, Inc., on behalf of Entergy Gulf States, Inc., tendered for filing an Interconnection and Operating Agreement with The Dow Chemical Company (Dow), and a Generator Imbalance Agreement with Dow.

Comment date: April 12, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-8111 Filed 4-2-01; 8:45 am]

BILLING CODE 6717-01-U